Title 3—

The President

Proclamation 9091 of March 24, 2014

Greek Independence Day: A National Day of Celebration of Greek and American Democracy, 2014

By the President of the United States of America

A Proclamation

Almost two centuries ago, the people of Greece laid claim to their independence and began a long struggle to restore democracy to its birthplace. Greek Americans crossed oceans to fight for the freedom of their ancestral homeland, and through two World Wars and a Cold War, Greece and the United States stood side-by-side. On Greek Independence Day, we honor the deep connections between our two nations and celebrate the democratic ideals at the heart of our shared history.

America's form of government owes much to the small group of Greek city-states that pioneered democracy thousands of years ago. Just as Hellenic principles guided our Founders, Greek antiquity has inspired generations, from writers and activists to architects and inventors. Greek Americans have contributed as leaders of culture, community, business, and government. Through the generations, they have helped shape our enduring democracy—a Nation that accepts our obligations to one another and understands that we must rise and fall as one.

Greece is a valued NATO ally, and our friendship remains as strong as ever. As Greece takes tough action to rebuild its economy and bring relief to the Greek people, the United States offers our continued support. Today, let us reaffirm a bond that extends beyond government, connects our peoples, and inspires all who strive to choose their own destiny.

NOW, THEREFORE, I, BARACK OBAMA, President of the United States of America, by virtue of the authority vested in me by the Constitution and the laws of the United States, do hereby proclaim March 25, 2014, as Greek Independence Day: A National Day of Celebration of Greek and American Democracy. I call upon the people of the United States to observe this day with appropriate ceremonies and activities.

IN WITNESS WHEREOF, I have hereunto set my hand this twenty-fourth day of March, in the year of our Lord two thousand fourteen, and of the Independence of the United States of America the two hundred and thirty-eighth.

[FR Doc. 2014-07047

Filed 3-26-14; 11:15 am]

Billing code 3295-F4